DEPARTMENT OF JUSTICE

Antitrust Division

Notice Pursuant to the National Cooperative Research and Production Act of 1993—Third Generation Partnership Project 2

Notice is hereby given that, on September 14, 2004, pursuant to section 6(a) of the National Cooperative Research and Production Act of 1993, 15 U.S.C. 4301 et seq. (“the Act”), Third Generation Partnership Project 2 (“3GPP2” has filed written notifications simultaneously with the Attorney General and the Federal Trade Commission disclosing (1) the name and principal name of business of the standards development organization and (2) the nature and scope of its standards development activities. The notifications were filed for the purpose of invoking the Act's provisions limiting the recovery of antitrust plaintiffs to actual damages under specified circumstances.

Pursuant to section 6(b) of the Act, the name and principal place of business of the standards development organization is: Third Generation Partnership Project 2, Arlington, VA. The nature and scope of 3GPP2's standards development activities are: for the purposes of preparing, approving, and maintaining globally applicable Technical Specifications and Technical Reports for a 3rd Generation Mobile System based on the evolving ANSI-41 Core Network and the relevant radio access technologies to be transposed by the relevant standardization bodies (Organizational Partners) into appropriate deliverables (e.g., standards).

Dorothy B. Fountain,
Deputy Director of Operations, Antitrust Division.

[FR Doc. 04-23537 Filed 10-20-04; 8:45 am]

BILLING CODE 4410-11-M